JUDICIAL CONFERENCE OF THE UNITED STATES

Hearings of the Judicial Conference Advisory Committees on the Federal Rules of Bankruptcy Procedure and the Federal Rules of Evidence

AGENCY: Advisory Committees on the Federal Rules of Bankruptcy Procedure and the Federal Rules of Evidence, Judicial Conference of the United States.

ACTION: Notice of proposed amendments and open hearings.

SUMMARY: The Advisory Committees on the Federal Rules of Bankruptcy Procedure and the Federal Rules of Evidence have proposed amendments to the following rules:

Bankruptcy Rule 1006

Evidence Rules 803 and 902

The text of the proposed rules amendments and the accompanying Committee Notes can be found at the United States Federal Courts' Web site at: http://www.uscourts.gov/rules-policies/proposed-amendments-published-public-comment.

All written comments and suggestions with respect to the proposed amendments may be submitted on or after the opening of the period for public comment on August 14, 2015, but no later than February 16, 2016. Written comments must be submitted electronically, following the instructions provided at the Web site address provided above. In accordance with established procedures, all comments submitted are available for public inspection.

Public hearings are scheduled to be held on these proposed amendments as follows:

• Bankruptcy Rule 1006 in Washington, DC on January 22, 2016, and in Pasadena, CA, on January 29, 2016;

• Rules of Evidence 803 and 902 in Phoenix, AZ, on January 6, 2016, and in Washington, DC, on February 12, 2016.

Those wishing to testify should contact the Secretary at the address below in writing at least 30 days before the hearing.

FOR FURTHER INFORMATION CONTACT: Rebecca A. Womeldorf, Secretary, Committee on Rules of Practice and Procedure of the Judicial Conference of the United States, Thurgood Marshall Federal Judiciary Building, One Columbus Circle NE., Suite 7-240, Washington, DC 20544, Telephone (202) 502-1820.

Dated: August 5, 2015.
Rebecca A. Womeldorf,
Secretary, Committee on Rules of Practice and Procedure, Judicial Conference of the United States.

[FR Doc. 2015-19634 Filed 8-10-15; 8:45 am]

BILLING CODE 2210-55-P